DEPARTMENT OF VETERANS AFFAIRS

Advisory Committee on Former Prisoners of War, Notice of Meeting

The Department of Veterans Affairs (VA) gives notice under Public Law 92-463 (Federal Advisory Committee Act) that a meeting of the Advisory Committee on Former Prisoners of War (FPOW) will be held on April 26-28, 2004, at the Department of Veterans Affairs, Central Office, 810 Vermont Avenue, NW., Washington, DC 20420. On April 26 and 27, the meeting will be in Room 730. On April 28, the Committee will meet in Room 630. Each day the meeting will convene at 9 am. and end at 4:30 p.m. The meeting is open to the public.

The purpose of the Committee is to advise the Secretary of Veterans Affairs on the administration of benefits under Title 38, United States Code, for veterans who are former prisoners of war and to make recommendations on the needs of such veterans for compensation, health care, and rehabilitation.

The agenda for April 26 will begin with a review of Committee reports, an update of activities since the last meeting, and a period for FPOW veterans and/or the public to address the Committee. VA's Compensation and Pension Service will provide a briefing on the progress of outreach initiatives to FPOWs and initiatives to reduce the number of old pending disability claims, as well as a progress report from VA's FPOW Medical Presumptive Workgroup. The agenda on April 27 will include a presentation from the Director of the Robert E. Mitchell Center for Prisoners of War Studies and reports on expanded VA outreach efforts to FPOWs and the continuing FPOW Case Management Training Courses. The Committee will also hear presentations on the overview of the Veterans Health Administration. The day will conclude with new business and general discussion. On April 28, the Committee's Medical and Administrative work groups will break out to discuss their activities and report to the Committee. Additionally, the Committee will review the comments discussed throughout the meeting and compile a final report of the Secretary.

Members of the public may direct questions or submit written statements for review by the Committee in advance of the meeting to Mr. Ronald J. Henke, Director, Compensation and Pension Service (21), Department of Veterans Affairs, 810 Vermont Avenue, NW., Washington, DC 20420.

Dated: April 1, 2004.
By Direction of the Secretary.
E. Philip Riggin,
Committee Management Officer.

[FR Doc. 04-7912 Filed 4-7-04; 8:45 am]

BILLING CODE 8320-01-M